DEPARTMENT OF COMMERCE

National Oceanic and Atmospheric Administration

RIN 0648-XE175

Marine Fisheries Advisory Committee Meeting

AGENCY: National Marine Fisheries Service (NMFS), National Oceanic and Atmospheric Administration (NOAA), Commerce.

ACTION: Notice of open public meeting.

SUMMARY: This notice sets forth the proposed schedule and agenda of a forthcoming meeting of the Marine Fisheries Advisory Committee (MAFAC). The members will discuss and provide advice on issues outlined under SUPPLEMENTARY INFORMATION below.

DATES: The meeting will be held October 13-15, 2015, from 8:30 a.m. to 5 p.m.

ADDRESS: The meeting will be held at the Sheraton Silver Spring Hotel, 8777 Georgia Ave, Silver Spring, MD 20910; 301-589-0800.

FOR FURTHER INFORMATION CONTACT: Jennifer Lukens, MAFAC Executive Director; (301) 427-8004; email: Jennifer.Lukens@noaa.gov.

SUPPLEMENTARY INFORMATION: As required by section 10(a)(2) of the Federal Advisory Committee Act, 5 U.S.C. App. 2, notice is hereby given of a meeting of MAFAC. The MAFAC was established by the Secretary of Commerce (Secretary), and, since 1971, advises the Secretary on all living marine resource matters that are the responsibility of the Department of Commerce. The complete charter and summaries of prior meetings are located online at http://www.nmfs.noaa.gov/ocs/mafac/.

Matters To Be Considered

This meeting time and agenda are subject to change.

The meeting is convened to hear presentations and discuss policies and guidance on the following topics: NOAA Fisheries Climate Science Strategy and its implementation, coastal resiliency, improving recovery of protected resources, implementation of the recreational fisheries policy, recreational bait and tackle economic survey and upcoming surveys, the Office of Aquaculture Draft Strategic Plan FY 2016-2020, and the budget outlook for FY2016. The meeting will include discussion of various MAFAC administrative and organizational matters and may include meetings of the standing subcommittees.

Special Accommodations

The meeting is physically accessible to people with disabilities. Requests for sign language interpretation or other auxiliary aids should be directed to Heidi Lovett; 301-427-8034 by October 2, 2015.

Dated: September 21, 2015.
Samuel D. Rauch III,
Deputy Assistant Administrator for Regulatory Programs, National Marine Fisheries Service.

[FR Doc. 2015-24676 Filed 9-28-15; 8:45 am]

BILLING CODE 3510-22-P